DEPARTMENT OF THE INTERIOR

Bureau of Land Management

[UT-050-4210-05; UTU-75929]

Realty Actions; Sales, Leases etc; Utah

AGENCY: Bureau of Land Management, Interior.

ACTION: Notice of realty action.

SUMMARY: The following public lands in Sanpete County, Utah, have been examined and found suitable for classification for conveyance to Sanpete County Sanitary Landfill Cooperative under the provisions of the Recreation and Public Purposes Act, as amended (43 U.S.C. 869 et seq.). Sanpete County proposes to use the lands for a Class I landfill.

Salt Lake Meridian

T.19 S., R.1 E.

Section 24: SE¼SW¼, SW¼SE¼,

Section 25: W½NE¼, E½NW¼, NE¼SW¼, NW¼SE¼, S½SE¼.

containing 400 acres more or less.

The lands are not needed for Federal purposes. Conveyance is consistent with current BLM land use planning and would be in the public interest.

The patent, when issued will be subject to the following terms, conditions, and reservations:

1. Provisions of the Recreation and Public Purposes Act and all applicable regulations of the Secretary of the Interior.

2. A right-of-way for ditches and canals constructed by the authority of the United States.

3. All minerals shall be reserved to the United States, together with the right to prospect for, mine, and remove the minerals.

4. Domestic livestock grazing use by J.D. Jackson as holder of grazing permit No. 435262 for the Gunnison Valley Allotment. The right of the permittee to graze livestock on the public land identified above pursuant to the terms and conditions of his permit and this clause shall expire on August 31, 2002.

5. Domestic livestock grazing use by Bryce Christensen as holder of grazing permit No. 435360 for the Sanpitch Allotment. The right of the permittee to graze livestock on the public land identified above pursuant to the terms and conditions of his permit and this clause shall expire on August 31, 2002.

Detailed information concerning this action is available at the office of Bureau of Land Management, 150 East 900 North, Richfield, Utah, 84701.

Publication of this notice constitutes notice to the grazing permittees of the Sanpitch and Gunnison Valley Allotments that their grazing leases may be directly affected by this action. Specifically, the permitted Animal Unit Months (AUMs) and acres in Sanpitch allotment will be reduced by 110 acres and 9 AUMs. The Gunnison Valley allotment will be reduced by 270 acres and 51 AUMs.

Upon publication of this notice in the Federal Register, the lands will be segregated from all other forms of appropriation under the public land laws, including the general mining laws, except for lease or conveyance under the Recreation and Public Purposes Act and leasing under the mineral leasing laws. For a period of 45 days from the date of publications of this notice, interested persons may submit comments regarding the proposed conveyance or classification of the lands to the Richfield Field Manager, Richfield Field Office, 150 East 900 North, Richfield, Utah 84701. Any adverse comments will be reviewed by the State Director. In the absence of any adverse comments, the classification will become effective 60 days from the date of publication of this notice.

Classification Comments

Interested parties may submit comments involving the suitability of the land for a landfill. Comments on the classification are restricted to whether the land is physically suited for the proposal, whether the use will maximize the future use or uses of the land, whether the use is consistent with the local planning and zoning, or if the use is consistent with State and Federal programs.

Application Comments

Interested parties may submit comments regarding the specific use proposed in the application and plan of development, whether the BLM followed proper administrative procedures in reaching the decision, or any other factor not related to the suitability of the land for a landfill.

Any adverse comments will be reviewed by the State Director. In the absence of any adverse comments, the classification will become effective 60 days from the date of publication of this notice in the Federal Register.

Dated: May 3, 2000.
Jerry Goodman,
Richfield Field Manager.

[FR Doc. 00-11852 Filed 5-10-00; 8:45 am]

BILLING CODE 4310-D9-P